DEPARTMENT OF HEALTH AND HUMAN SERVICES

Agency for Healthcare Research and Quality; Notice of Meetings

In accordance with section 10(d) of the Federal Advisory Committee Act as amended (5 U.S.C., appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., appendix 2 and 5 U.S.C. 552b(c)(6). Grant applications are to be reviewed and discussed at these meetings. These discussions are likely to reveal personal information concerning individuals associated with the applications. This information is exempt from mandatory disclosure under the above-cited statutes.

1. Name of Subcommittee: Health Care Research Training.

Date: May 16-17, 2002 (Open from 8 a.m. to 8:15 a.m. and closed for remainder of the meeting).

Place: AHRQ, 6010 Executive Boulevard, 4th Floor Conference Center, Rockville, Maryland 20852.

2. Name of Subcommittee: Health Care Technology and Decision Sciences.

Date: June 6-7, 2002 (Open from 8 a.m. to 8:15 a.m. and closed for remainder of the meeting).

Place: AHRQ, 6010 Executive Boulevard, 4th Floor Conference Center, Rockville, Maryland 20852.

3. Name of Subcommittee: Health Research Dissemination and Implementation.

Date: June 17-18, 2002 (Open from 8 a.m. to 8:15 a.m. and closed for remainder of the meeting).

Place: AHRQ, 6010 Executive Boulevard, 4th Floor Conference Center, Rockville, Maryland 20852.

4. Name of Subcommittee: Health Care Quality and Effectiveness Research.

Date: June 20-21, 2002 (Open from 8 a.m. to 8:15 a.m. and closed for remainder of the meeting).

Place: AHRQ, 6010 Executive Boulevard, 4th Floor Conference Center, Rockville, Maryland 20852.

5. Name of Subcommittee: Health Systems Research.

Date: June 26-27, 2002 (Open from 8 a.m. to 8:15 a.m. and closed for remainder of the meeting).

Place: AHRQ, 6010 Executive Boulevard, 4th Floor Conference Center, Rockville, Maryland 20852.

Contact Person: Anyone wishing to obtain a roster of members, agenda or minutes of the nonconfidential portions of the meetings should contact Mrs. Bonnie Campbell, Committee Management Officer, Office of Research Review, Education and Policy, AHRQ, 2101 East Jefferson Street, Suite 400, Rockville, Maryland 20852, Telephone (301) 594-1846.

Agenda items for these meetings are subject to change as priorities dictate.

Dated: April 12, 2002.
Carolyn M. Clancy,
Acting Director.

[FR Doc. 02-9605 Filed 4-18-02; 8:45 am]

BILLING CODE 4160-90-M